DEPARTMENT OF HEALTH AND HUMAN SERVICES

Centers for Disease Control and Prevention

[60Day-23-23FQ; Docket No. CDC-2023-0046]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a proposed information collection, as required by the Paperwork Reduction Act of 1995. This notice invites comment on a proposed information collection project titled Public Health/Public Safety Strategies to Reduce Drug Overdose Data Collection. This data collection is designed to collect data on overdose prevention efforts that involve Public Health/Public Safety sectors or to address justice-involved populations at increased risk of overdose.

DATES: CDC must receive written comments on or before August 8, 2023.

ADDRESSES: You may submit comments, identified by Docket No. CDC-2023-0046 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Public Health/Public Safety Strategies to Reduce Drug Overdose Data Collection—New—National Center for Injury Prevention and Control (NCIPC), Centers for Disease Control and Prevention (CDC).

Background and Brief Description

The drug overdose epidemic continues to pose a serious threat to communities across the country. In March 2023, the declaration of the opioid crisis as a national Public Health Emergency was renewed yet again. Further, provisional data from the National Center for Health Statistics (NCHS) confirmed that the number of overdose deaths in 2022 was 109,680, which is a 0.5% increase from 2020. Adding to this challenge, drug availability and overdose trends are rapidly changing, shaped by the westward expansion of fentanyl, the eastward expansion of methamphetamine, the inclusion of adulterants in the drug supply (e.g., fentanyl, xylazine), and increasing polysubstance-involved overdose.

Multisector collaboration is critical to saving lives and reducing the overdose epidemic. Two key sectors in this response are public health and public safety (PH/PS), as they are both on the front lines and both tasked with improving community safety and well-being. CDC demonstrates strong commitment to PH/PS partnerships through implementation of several national programs. Beginning in September 2019, CDC's Overdose Data to Action (OD2A) funds enhanced surveillance and prevention of fatal and nonfatal opioid overdoses in 47 states and 19 localities. In most of these jurisdictions, prevention activities are carried out in partnership with public safety. Since 2017, CDC has supported the Overdose Response Strategy (ORS), a unique collaboration between public health and public safety partners created to help local communities reduce drug overdose and save lives. Finally, CDC recently launched the Opioid Rapid Response Program, an interagency, coordinated Federal effort with the HHS Office of Inspector General to help mitigate overdose risks among patients who lose access to a prescriber of opioids due to law enforcement actions. As a relatively new and increasingly leveraged tool for overdose prevention, a greater understanding of PH/PS strategies are needed to inform these national programs.

The goal of this Generic mechanism is to collect data to improve overdose prevention efforts that involve PH/PS sectors or address justice-involved populations at increased risk of overdose. This requires practical information and experiential knowledge on current implementation of overdose prevention efforts by PH/PS. Based on previous experience, NCIPC anticipates that information will need to be collected to: (a) understand the design, implementation, and uptake of strategies that involve public health and safety, or individuals involved in the criminal legal system who are at increased risk of overdose; (b) identify barriers, facilitators, and best practices associated with strategy implementation; and (c) identify disparities in access to strategies among diverse populations or the effectiveness of these strategies in reducing overdose.

This Generic mechanism will allow for the gathering of information about PH/PS strategies to identify actions to improve responses to the overdose crisis. No Generic currently exists that would allow for exploration of programs, practices, and capacity among PH/PS partnerships to address overdose. The assessments conducted and information gathered through this mechanism will be used to rapidly improve the implementation of programs enacted through these partnerships throughout the lifespan of CDC's national programs and more broadly.

The estimated annual burden hours requested for this collection are 2,500. There are no costs to respondents other than their time.

Estimated Annualized Burden Hours
Type of respondent | Form name | Number of respondents | Number of responses per respondent | Average burden per response (in hours) | Total burden hours
Public Health/Public Safety Strategies Data Collection Participants | Public Health/Public Safety Strategies Data Collection Instruments | 5,000 | 1 | 30/60 | 2,500

Jeffrey M. Zirger,
Lead, Information Collection Review Office, Office of Public Health Ethics and Regulations, Office of Science, Centers for Disease Control and Prevention.

[FR Doc. 2023-12359 Filed 6-8-23; 8:45 am]

BILLING CODE 4163-18-P